NUCLEAR REGULATORY COMMISSION

10 CFR Part 72

[NRC-2018-0075]

RIN 3150-AK12

List of Approved Spent Fuel Storage Casks: NAC International NAC-UMS® Universal Storage System, Certificate of Compliance No. 1015, Amendment No. 6

AGENCY: Nuclear Regulatory Commission.

ACTION: Direct final rule; confirmation of effective date.

SUMMARY: The U.S. Nuclear Regulatory Commission (NRC) is confirming the effective date of January 7, 2019, for the direct final rule that was published in the Federal Register on October 22, 2018. This direct final rule amends the NRC's spent fuel storage regulations by revising the NAC International NAC-UMS® listing within the “List of approved spent fuel storage casks” to include Amendment No. 6 to Certificate of Compliance No. 1015. Amendment No. 6 revises the technical specifications of the certificate of compliance to: Remove a redundant requirement for inspection of the concrete cask and canister; revise a limiting condition of operation for heat removal to clarify that “LCO not met” means that the concrete heat removal system is inoperable; remove an inspection requirement that is already covered by limiting condition of operation surveillance requirements for off-normal, accident, or natural phenomenon events; and clarify that “immediate” restoration of a concrete cask's heat removal capabilities means “within the design-basis time limit” in Section 11.2.13 of the final safety analysis report, “or within the time limit for a less than design-basis heat load case, as evaluated.” Amendment No. 6 also clarifies that a limiting condition of operation for loaded cask surface dose rates applies prior to storage conditions, when dose rates will be highest.

DATES: Effective date: The effective date of January 7, 2019, for the direct final rule published October 22, 2018 (83 FR 53159), is confirmed.

ADDRESSES: Please refer to Docket ID NRC-2018-0075 when contacting the NRC about the availability of information for this action. You may obtain publicly-available information related to this action by any of the following methods:

• Federal Rulemaking Website: Go to http://www.regulations.gov and search for Docket ID NRC-2018-0075. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The proposed amendment to the certificate, the proposed Appendices A and B to the technical specifications, and preliminary safety evaluation report are available in ADAMS under Accession No. ML18088A169. The final amendment to the certificate, final appendices to the technical specifications, and final safety evaluation report can also be viewed in ADAMS under Accession No. ML18333A232.

• NRC's PDR: You may examine and purchase copies of public documents at the NRC's PDR, Room O1-F21, One White Flint North, 11555 Rockville Pike, Rockville, Maryland 20852.

FOR FURTHER INFORMATION CONTACT: Bernard H. White, Office of Nuclear Material Safety and Safeguards; telephone: 301-415-6577; email: Bernard.White@nrc.gov or Robert D. MacDougall, Office of Nuclear Material Safety and Safeguards; telephone: 301-415-5175; email: Robert.MacDougall@nrc.gov. Both are staff of the U.S. Nuclear Regulatory Commission, Washington, DC 20555-0001.

SUPPLEMENTARY INFORMATION: On October 22, 2018 (83 FR 53159), the NRC published a direct final rule amending its regulations in part 72 of title 10 of the Code of Federal Regulations by revising the NAC International NAC-UMS® listing within the “List of approved spent fuel storage casks” to include Amendment No. 6 to Certificate of Compliance No. 1015. Amendment No. 6 revises the technical specifications of the certificate of compliance to: Remove a redundant requirement for inspection of the concrete cask and canister; revise a limiting condition of operation for heat removal to clarify that “LCO not met” means that the concrete heat removal system is inoperable; remove an inspection requirement that is already covered by limiting condition of operation surveillance requirements for off-normal, accident, or natural phenomenon events; and clarify that “immediate” restoration of a concrete cask's heat removal capabilities means “within the design-basis time limit” in Section 11.2.13 of the final safety analysis report, “or within the time limit for a less than design-basis heat load case, as evaluated.” Amendment No. 6 also clarifies that a limiting condition of operation for loaded cask surface dose rates applies prior to storage conditions, when dose rates will be highest. In the direct final rule, the NRC stated that if no significant adverse comments were received, the direct final rule would become effective on January 7, 2019. The NRC did not receive any comments on the direct final rule. Therefore, this direct final rule will become effective as scheduled.

Dated at Rockville, Maryland, this 13th day of December 2018.
For the Nuclear Regulatory Commission.
Cindy K. Bladey,
Chief, Regulatory Analysis and Rulemaking Support Branch, Division of Rulemaking, Office of Nuclear Material Safety and Safeguards.

[FR Doc. 2018-27436 Filed 12-18-18; 8:45 am]

BILLING CODE 7590-01-P